SECURITIES AND EXCHANGE COMMISSION

Sunshine Act Meetings

FEDERAL REGISTER CITATION OF PREVIOUS ANNOUNCEMENT: 83 FR 38759, August 7, 2018.

PREVIOUSLY ANNOUNCED TIME AND DATE OF THE MEETING: Thursday, August 9, 2018 at 2:00 p.m.

CHANGES IN THE MEETING: The Closed Meeting scheduled for Thursday, August 9, 2018 at 2:00 p.m. has been changed to Thursday, August 9, 2018 at 1:00 p.m.

CONTACT PERSON FOR MORE INFORMATION: For further information and to ascertain what, if any, matters have been added, deleted or postponed, please contact the Office of the Secretary at (202) 551-5400.

Dated: August 7, 2018.
Brent J. Fields,
Secretary.

[FR Doc. 2018-17259 Filed 8-8-18; 11:15 am]

BILLING CODE 8011-01-P